DEPARTMENT OF ENERGY

10 CFR Parts 429 and 431

[EERE-2021-BT-TP-0021]

Energy Conservation Program: Test Procedures for Fans and Blowers

AGENCY: Office of Energy Efficiency and Renewable Energy, Department of Energy.

ACTION: Request for information; extension of public comment period.

SUMMARY: On October 1, 2021, the U.S. Department of Energy (“DOE”) published a request for information (“RFI”) undertaking the preliminary stages of a rulemaking to consider potential test procedures for fans and blowers, including air circulating fan heads. The RFI provided an opportunity for submitting written comments, data, and information by November 1, 2021. DOE received requests from the Air Movement and Control Association (AMCA) International asking for a 21-day extension of the public comment period. DOE has reviewed this request and is granting an extension of the public comment period for 14 days to allow public comments to be submitted until November 15, 2021.

DATES: The comment period for the RFI published on October 1, 2021 (86 FR 54412) is extended. DOE will accept comments, data, and information regarding this RFI received no later than November 15, 2021.

ADDRESSES: Interested persons are encouraged to submit comments using the Federal eRulemaking Portal at www.regulations.gov. Follow the instructions for submitting comments. Alternatively, interested persons may submit comments, identified by docket number EERE-2021-BT-TP-0021, by any of the following methods:

1. Federal eRulemaking Portal: www.regulations.gov. Follow the instructions for submitting comments.

2. Email: To FansBlowers2021TP0021@ee.doe.gov. Include docket number EERE-2021-BT-TP-0021 in the subject line of the message.

No telefacsimilies (“faxes”) will be accepted.

Although DOE has routinely accepted public comment submissions through a variety of mechanisms, including postal mail and hand delivery/courier, the Department has found it necessary to make temporary modifications to the comment submission process in light of the ongoing Covid-19 pandemic. DOE is currently accepting only electronic submissions at this time. If a commenter finds that this change poses an undue hardship, please contact Appliance Standards Program staff at (202) 586-1445 to discuss the need for alternative arrangements. Once the Covid-19 pandemic health emergency is resolved, DOE anticipates resuming all of its regular options for public comment submission, including postal mail and hand delivery/courier.

Docket: The docket for this activity, which includes Federal Register notices, comments, and other supporting documents/materials, is available for review at www.regulations.gov. All documents in the docket are listed in the www.regulations.gov index. However, some documents listed in the index, such as those containing information that is exempt from public disclosure, may not be publicly available.

The docket web page can be found at: www1.eere.energy.gov/buildings/appliance_standards/product.aspx/productid/65. The docket web page contains instructions on how to access all documents, including public comments, in the docket.

FOR FURTHER INFORMATION CONTACT: Mr. Jeremy Dommu, U.S. Department of Energy, Office of Energy Efficiency and Renewable Energy, Building Technologies Office, EE-5B, 1000 Independence Avenue SW, Washington, DC 20585-0121. Telephone: (202) 586-9870. Email: ApplianceStandardsQuestions@ee.doe.gov.

Ms. Amelia Whiting, U.S. Department of Energy, Office of the General Counsel, GC-33, 1000 Independence Avenue SW, Washington, DC 20585-0121. Telephone: (202) 586-2588. Email: Amelia.Whiting@hq.doe.gov.

For further information on how to submit a comment or review other public comments and the docket contact the Appliance and Equipment Standards Program staff at (202) 287-1445 or by email: ApplianceStandardsQuestions@ee.doe.gov.

SUPPLEMENTARY INFORMATION: On October 1, 2021, DOE published a RFI undertaking the preliminary stages of a rulemaking to consider potential test procedures for fans and blowers, including air circulating fan heads. DOE is seeking data and information to evaluate whether new test procedures would accurately and fully comply with the requirement that a test procedure measures energy use during a representative average use cycle for the equipment without being unduly burdensome to conduct. Specifically, DOE is seeking information regarding the definition, scope, test procedure and metrics for air circulating fan heads. 86 FR 54412. On October 15, 2021, AMCA requested an extension of the public comment period for the RFI. AMCA commented that the extension is necessary to research the issues that DOE is asking about and to collaborate with other organizations responding to the RFI. AMCA stated that they believe an extension will serve the public interest through improving not only the quality of the information industry submits to the department, but also increasing the likelihood of presenting the department with consensus recommendations on many of the questions being asked. (AMCA, No. 2 at p. 1) ¹

¹ The parenthetical reference provides a reference for information located in DOE's rulemaking docket. (Docket No. EERE-2021-BT-TP-0021, which is maintained at www.regulations.gov/comment/EERE-2021-BT-TP-0021-0002). The references are arranged as follows: (Commenter name, comment docket ID number, page of that document).

DOE has reviewed the requests and is extending the comment period to allow additional time for interested parties to submit comments. As noted, the RFI was issued as part of the preliminary stages of a rulemaking to consider potential test procedures for fans and blowers, including air circulating fan heads. If DOE determines that test procedures may be appropriate, additional notifications will be published (e.g., a notice of proposed rulemaking) providing interested parties with an additional opportunity to submit comment. DOE has determined that an extension of 14 days is sufficient for this preliminary stage. Therefore, DOE is extending the comment period until November 15, 2021.

Signing Authority

This document of the Department of Energy was signed on October 19, 2021, by Kelly Speakes-Backman, Principal Deputy Assistant Secretary and Acting Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on October 20, 2021.
Treena V. Garrett,
Federal Register Liaison Officer, U.S. Department of Energy.

[FR Doc. 2021-23229 Filed 10-26-21; 8:45 am]

BILLING CODE 6450-01-P